DEPARTMENT OF AGRICULTURE

Animal and Plant Health Inspection Service

7 CFR Part 301

[Docket No. APHIS-2015-0097]

Asian Longhorned Beetle: Update List of Regulated Articles

AGENCY: Animal and Plant Health Inspection Service, USDA.

ACTION: Affirmation of interim rule as final rule.

SUMMARY: We are adopting as a final rule, without change, an interim rule that amended the Asian longhorned beetle (ALB) regulations by removing plants of the genus Celtis, which we have determined not to be a host plant of ALB, from the list of regulated articles. As a result of the interim rule, there are no longer any restrictions on the movement of Celtis spp. plants from areas quarantined for ALB.

DATES: Effective on May 25, 2017, we are adopting as a final rule the interim rule published at 81 FR 39175-39176 on June 16, 2016.

FOR FURTHER INFORMATION CONTACT: Ms. Claudia Ferguson, M.S., Senior Regulatory Policy Specialist, Regulatory Coordination and Compliance, Imports, Regulations and Manuals, PPQ, APHIS, 4700 River Road Unit 133, Riverdale, MD 20737-1236; (301) 851-2352; email: Claudia.Ferguson@aphis.usda.gov.

SUPPLEMENTARY INFORMATION:

Background

In an interim rule ¹ effective June 16, 2016, and published in the Federal Register on June 16, 2016 (81 FR 39175-39176, Docket No. APHIS-2015-0097), we amended the Asian longhorned beetle (ALB) regulations in 7 CFR 301.51 by removing plants of the genus Celtis, which we have determined not to be a host plant of ALB, from the list of regulated articles. This action relieved restrictions on the movement of Celtis spp. plants from areas quarantined for ALB.

¹ To view the interim rule and supporting documentation, go to http://www.regulations.gov/#!docketDetail;D=APHIS-2015-0097.

Comments on the interim rule were required to be received on or before August 15, 2016. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866. Because this rule is waived, it does not trigger the requirements of Executive Order 13771.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 81 FR 39175-39176 on June 16, 2016.

Done in Washington, DC, this 19th day of May 2017.
Michael C. Gregoire,
Acting Administrator, Animal and Plant Health Inspection Service.

[FR Doc. 2017-10675 Filed 5-24-17; 8:45 am]

BILLING CODE 3410-34-P